DEPARTMENT OF TRANSPORTATION

Federal Aviation Administration

14 CFR Part 39

[Docket No. 2000-CE-25-AD]

RIN 2120-AA64

Airworthiness Directives; Raytheon Aircraft Company Beech Models F33A, A36, B36TC, 58/58A, C90A, B200, and 1900D Airplanes

AGENCY: Federal Aviation Administration, DOT.

ACTION: Notice of proposed rulemaking (NPRM).

SUMMARY: This document proposes to adopt a new airworthiness directive (AD) that would apply to certain Raytheon Aircraft Company (Raytheon) Beech Model F33A, A36, B36TC, 58/58A, C90A, B200, and 1900D airplanes equipped with a KA-33 cooling blower. The proposed AD would require you to incorporate certain electrical parts to protect cooling blowers. Several reports of circuit breakers failing to protect cooling blowers on the affected airplanes have prompted the proposed action. The actions specified by the proposed AD are intended to provide protection to the blower motor circuit, thus reducing the possibility of emission of smoke or a burning odor into the cockpit or passenger compartment as a result of a failed or seized blower motor.

DATES: The Federal Aviation Administration (FAA) must receive any comments on this proposed rule by April 6, 2001.

ADDRESSES: Send three copies of comments to the Federal Aviation Administration (FAA), Central Region, Office of the Regional Counsel, Attention: Rules Docket No. 2000-CE-25-AD, 901 Locust, Room 506, Kansas City, Missouri 64106. You may look at comments at this location between 8 a.m. and 4 p.m., Monday through Friday, except holidays.

You may get the service information referenced in the proposed AD from the Raytheon Aircraft Company, P.O. Box 85, Wichita, Kansas 67201-0085; telephone: (800) 429-5372 or (316) 676-3140. You may look at this information at the Rules Docket at the address above.

FOR FURTHER INFORMATION CONTACT: Todd Dixon, Aerospace Engineer, FAA, Wichita Aircraft Certification Office, 1801 Airport Road, Mid-Continent Airport, Wichita, Kansas 67209; telephone: (316) 946-4152; facsimile: (316) 946-4407.

SUPPLEMENTARY INFORMATION:

Comments Invited

How do I comment on this proposed AD? We invite your comments on the proposed rule. You may send whatever written data, views, or arguments you choose. You need to include the rule's docket number and send your comments in triplicate to the address named under the caption ADDRESSES. We will consider all comments received by the closing date specified above, before acting on the proposed rule. We may change the proposals contained in this notice because of the comments received.

Are there any specific portions of the proposed AD I should pay attention to? The FAA specifically invites comments on the overall regulatory, economic, environmental, and energy aspects of the proposed rule that might call for a need to change the proposed rule. You may examine all comments we receive. We will file a report in the Rules Docket that summarizes each FAA contact with the public that concerns the substantive parts of this proposal.

The FAA is reexamining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure FAA receives my comment? If you want us to acknowledge the receipt of your comments, you must include a self-addressed, stamped postcard. On the postcard, write “Comments to Docket No. 2000-CE-25-AD.” We will date stamp and mail the postcard back to you.

Discussion

What events have caused this proposed AD? The FAA has received several reports of blower motors failing, seizing, smoking, and producing a burning odor that enters the cabin and passenger compartment. These events are the result of the blower motor having circuit protection of more than 1 ampere. This amount of circuit protection does not prevent the blower motor from smoking and creating a burning odor should it fail or seize.

What are the consequences if the condition is not corrected? This condition could result in smoke or burning odor entering the cockpit or passenger compartments.

Relevant Service Information

What service information applies to this subject? Raytheon has issued these Service Bulletins:

—SB 34-3267, Issued: March 1999;

—SB 34-3268, Issued: April 2000;

—SB 34-3269, Issued: January 2000; and

—SB 34-3269, Revision 1, Revised: October 2000.

What are the provisions of these service bulletins? These service bulletins specify and include procedures for the following:

Service bulletin | Applies to | Specifies and includes procedures for
Raytheon Service Bulletin SB 34-3267 | Certain Raytheon Models F33A, A36, B36TC, and 58/58A airplanes | Inspecting for an installed KA-33 cooling blower. If the aircraft has a KA-33 cooling blower, installing a 1 ampere circuit breaker, part number (P/N) 7277-2-1, in place of the factory installed 3 ampere/5 ampere circuit breakers.
Raytheon Service Bulletin SB 34-3268 | Certain Raytheon Model 1900D airplanes | Installing the in-line fuse holder, P/N HHJ-A, in wire J51500E-J039002. Installing the 1 ampere slow-burn fuse, P/N MDA1, in the fuse holder.
Raytheon Service Bulletin SB 34-3269 and SB 34-3269, Revision 1 | Certain Raytheon Models C90A and B200 airplanes | Installing the in-line fuse holder, P/N HHJ-A, following SB 34-3269 Rev. 1, Figures 1 or 2 or 3 (whichever is applicable). Installing the 1 ampere slow-burn fuse, P/N MDL1, in the fuse holder In addition, for Model B200 aircraft, installing the GMW-3 fuse in the Avionics Junction Box.

The FAA's Determination and an Explanation of the Provisions of the Proposed AD

What has FAA decided? After examining the circumstances and reviewing all available information related to the incidents described above, we have determined that:

—the unsafe condition referenced in this document exists or could develop on other Raytheon Beech Model F33A, A36, B36TC, 58/58A, C90A, B200, and 1900D airplanes of the same type design;

—these airplanes should have the actions specified in the service bulletins incorporated; and

—FAA should take AD action to correct this unsafe condition.

What does this proposed AD require? This proposed AD would require you to incorporate the electrical installations presented in the service bulletin.

What are the differences between the service bulletin and the proposed AD? Raytheon specifies in the service information that you are to do this modification at the next scheduled inspection or before 6 months or 600 hours time-in-service, whichever comes first. We propose a requirement that you do the modification within the next 6 calendar months or 600 hours time-in-service (TIS), whichever comes first, after the effective date of the proposed AD. We cannot enforce a compliance time of “at the next scheduled inspection.” We believe that 6 calendar months or 600 hours TIS will give the owners/operators of the affected airplanes enough time to have the proposed actions done without compromising the safety of the airplanes. This will allow the owners/operators to work this proposed modification into regularly scheduled maintenance.

Cost Impact

How many airplanes does this proposed AD impact? We estimate the proposed AD would affect 3,403 airplanes in the U.S. registry:

Models | No. of U.S. airplanes affected
F33A, A36, B36TC, and 58/58A | 2,385
C90A | 275
B200 | 343
1900D | 400

What is the cost impact of the proposed action for the affected airplanes on the U.S. Register? We estimate the following costs to do the proposed inspection for Beech Models F33A, A36, B36TC, and 58/58A airplanes:

Labor cost | Parts cost | Total cost for each airplane | Total cost on U.S. airplane operators
1 workhour × $60 each hour = $60 | No parts needed for inspection | $60 | $143,100

For Beech Models F33A, A36, B36TC, and 58/58A airplanes, we estimate the following costs to do any necessary circuit breaker installation that would be required based on the results of the proposed inspection. We have no way of knowing the number of airplanes that may need the circuit breaker installation:

Labor cost | Parts cost | Total cost for each airplane
1 workhour × $60 each hour = $60 to do each circuit breaker installation | $32.50 for each airplane | $60 + $32.50 = $92.50

We estimate the following costs to do the proposed installation for Beech Model C90A airplanes. We have no way of knowing how many airplanes may need the in-line fuse holder and 1 ampere slow-burn fuse installation:

Labor cost | Parts cost | Total cost for each airplane
1 workhour × $60 each hour = $60 to do each inline fuse holder and 1-ampere slow-burn fuse installation | $11.80 for each airplane | $60 + $11.80 = $71.80

We estimate the following costs to do the proposed installation for Beech Models B200 airplanes. We have no way of knowing how many airplanes may need the in-line fuse holder and 1 ampere slow-burn fuse installation:

Labor cost | Parts cost | Total cost for each airplane
2 workhours × $60 each hour = $120 to do each in-line fuse holder, 1-ampere slow-burn fuse installation and the Avionics Junction Box re-work | $18.81 for each airplane | $120 + $18.81 = $138.81

We estimate the following costs to do the proposed installation for Beech Models 1900D airplanes. We have no way of knowing the number of airplanes that may need the in-line fuse holder and 1 ampere slow-burn fuse installation:

Labor cost | Parts cost | Total cost for each airplane
1 workhour × $60 each hour = $60 to do each in-line fuse holder and 1-ampere slow-burn fuse installation | $11.80 for each airplane | $60 + $11.80 = $71.80.

The manufacturer will allow warranty credit for labor and parts to the extent noted in the service bulletin.

Regulatory Impact

Does this proposed AD impact relations between Federal and State governments? The proposed regulations would not have substantial direct effects on the States, on the relationship between the national government and the States, or on the distribution of power and responsibilities among the various levels of government. We have determined that this proposed rule would not have federalism implications under Executive Order 13132.

Does this proposed AD involve a significant rule or regulatory action? For the reasons discussed above, I certify that this action (1) is not a “significant regulatory action” under Executive Order 12866; (2) is not a “significant rule” under Department of Transportation Regulatory Policies and Procedures (44 FR 11034, February 26, 1979); and (3) if put into effect, will not have a significant economic impact, positive or negative, on a substantial number of small entities under the criteria of the Regulatory Flexibility Act. We have placed a copy of the draft regulatory evaluation prepared for this action in the Rules Docket. You may get a copy of it by contacting the Rules Docket at the location provided under the caption ADDRESSES.

List of Subjects in 14 CFR Part 39

Air transportation, Aircraft, Aviation safety, Safety.

The Proposed Amendment

Therefore, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Raytheon Aircraft Company: Docket No. 2000-CE-25-AD.

(a) What airplanes are affected by this AD? The following model airplanes, certificated in any category:

Model | Serial Numbers
Beech F33A | CE-1050 through CE-1791.
Beech A36 | E-2205 through E-3217.
Beech B36TC | EA-443 through EA-628.
Beech 58/58A | TH-1436 through TH-1883.
Beech C90A | Do not have the EFIS-84 System.Installation equipped with factory installed KLN-88 LORAN: LJ-1278, LJ-1288, LJ-1293, LJ-1299, LJ-1314, AND LJ-1315.
Beech C90A | Equipped with Collins EFIS-84 System:LJ-1306, LJ-1316, LJ-1318, LJ-1320 through LJ-1334, LJ-1340 through LJ-1592.
Beech B200 | BB-1314, BB-1449 through BB-1692 equipped with Collins EFIS-84 System.
1900D | UE-1 through UE-401.

(b) Who must comply with this AD? Anyone who wishes to operate any of the above airplanes on the U.S. Register must comply with this AD.

(c) What problem does this AD address? The actions specified by this AD are intended to provide protection to the blower motor circuit, thus reducing the possibility of the emission of smoke or a burning odor in the cockpit or passenger compartment from a failed or seized blower motor.

(d) What must I do to address this problem for Beech Models F33A, A36, B36TC, and 58/58A? To address this problem, you must do the following actions:

Actions | Compliance times | Procedures
(1) Inspect for an installed and properly working KA-33 cooling blower | Within the next 600 hours time-in-service (TIS) or within the next 6 calendar months after the effective date of this AD, whichever comes first, unless already performed | Do this action following Raytheon Mandatory Service Bulletin SB 34-3267, Issued: March 1999.
(2) If the aircraft has a KA-33 cooling blower, install a 1 ampere circuit breaker, part number (P/N) 7277-2-1, in place of the factory installed 3 ampere/5 ampere circuit breakers | Before further flight after the inspection | Do this action following Raytheon Mandatory Service Bulletin SB 34-3267, Issued: March 1999.
(3) Do not install, on any affected airplane, any 3 ampere/5 ampere circuit breakers to protect the KA-33 Cooling Blower | As of the effective date of this AD.

(e) What must I do to address this problem for Beech Models C90A? To address this problem, you must do the following actions:

Actions | Compliance times | Procedures
(1) Install the in-line fuse holder, P/N HHJ-A, per the Service Bulletin instructions, and install the 1-ampere slow-burn fuse, P/N MDL1 in the fuse holder | Within the next 600 hours TIS or within the next 6 calendar months after the effective date of this AD, whichever comes first, unless already performed | Do these actions following Raytheon Mandatory Service Bulletin SB 34-3269, Revision 1, Revised: October 2000.
(2) Doing this action following Raytheon Mandatory Service Bulletin SB 34-3269, Issued: January 2000, is considered an alternative method of compliance within this AD | Within the next 600 hours TIS or within the next 6 calendar months after the effective date of this AD, whichever comes first, unless already performed. | Not Applicable.

(f) What must I do to address this problem for Beech Models B200? To address this problem, you must do the following actions:

Actions | Compliance times | Procedures
(1) Install the in-line fuse holder, P/N HHJ-A. Install the 1-ampere slow-burn fuse, P/N MDL1 in the fuse holder | Within the next 600 hours TIS or within the next 6 calendar months after the effective date of this AD, whichever comes first, unless already performed. | Do these actions following Raytheon Mandatory Service Bulletin SB 34-3269, Revision 1, Revised: October 2000.
(2) Remove the P/N GMW-1 fuse and install the new P/N GMW-3 fuse in the Avionics Junction Box | Within the next 600 hours TIS or within the next 6 calendar months after the effective date of this AD, whichever comes first, unless already performed. | Do these actions following Raytheon Mandatory Service Bulletin SB 34-3269, Revision 1, Revised: October 2000.
(3) Doing this action following Raytheon Mandatory Service Bulletin SB 34-3269, Issued: January 2000, is considered an alternative method of compliance within this AD | Within the next 600 hours TIS or within the next 6 calendar months after the effective date of this AD, whichever comes first, unless already performed | Not Applicable.

(g) What must I do to address this problem for Model 1900D? To address this problem, you must do the following actions:

Actions | Compliance times | Procedures
Install the in-line fuse holder, P/N HHJ-A, in wire J51500E-J039002. Install the 1-ampere slow-burn fuse, P/N MDA1 in the fuse holder | Within the next 600 hours TIS or within the next 6 calendar months after the effective date of this AD, whichever comes first, unless already performed. | Do these actions following Raytheon Mandatory Service Bulletin SB 34-3268, Issued: April 2000.

(h) Can I comply with this AD in any other way? You may use an alternative method of compliance or adjust the compliance time if:

(1) Your alternative method of compliance provides an equivalent level of safety; and

(2) The Manager, Wichita Aircraft Certification Office (ACO), approves your alternative. Send your request through an FAA Principal Maintenance Inspector, who may add comments and then send it to the Manager, Wichita ACO.

Note: This AD applies to each airplane with a KA-33 cooling blower identified in paragraph (a) of this AD, regardless of whether it has been modified, altered, or repaired in the area subject to the requirements of this AD. For airplanes that have been modified, altered, or repaired so that the performance of the requirements of this AD is affected, the owner/operator must request approval for an alternative method of compliance following paragraph (h) of this AD. You should include in the request an assessment of the effect of the modification, alteration, or repair on the unsafe condition addressed by this AD; and, if you have not eliminated the unsafe condition, specific actions you propose to address it.

(i) Where can I get information about any already-approved alternative methods of compliance? Contact Todd Dixon, Aerospace Engineer, FAA, Wichita Aircraft Certification Office, 1801 Airport Road, Mid-Continent Airport, Wichita, Kansas 67209; telephone: (316) 946-4152; facsimile: (316) 946-4407.

(j) What if I need to fly the airplane to another location to comply with this AD? The FAA can issue a special flight permit under §§ 21.197 and 21.199 of the Federal Aviation Regulations (14 CFR 21.197 and 21.199) to operate your airplane to a location where you can perform the requirements of this AD.

(k) How do I get copies of the documents referenced in this AD? You may get the service information referenced in the AD from the Raytheon Aircraft Company, P.O. Box 85, Wichita, Kansas 67201-0085; or you may look at the service information at FAA, Central Region, Office of the Regional Counsel, 901 Locust, Room 506, Kansas City, Missouri 64106.

Issued in Kansas City, Missouri, on February 7, 2001.
William J. Timberlake,
Acting Manager, Small Airplane Directorate, Aircraft Certification Service.

[FR Doc. 01-3679 Filed 2-13-01; 8:45 am]

BILLING CODE 4910-13-P